DEPARTMENT OF COMMERCE

International Trade Administration

[C-570-971]

Multilayered Wood Flooring From the People's Republic of China: Partial Rescission of Countervailing Duty Administrative Review; 2019

AGENCY: Enforcement and Compliance, International Trade Administration, Department of Commerce.

SUMMARY: The Department of Commerce (Commerce) is partially rescinding the administrative review of the countervailing duty order on multilayered wood flooring (wood flooring) from the People's Republic of China (China) for the period of review (POR) January 1, 2019, through December 31, 2019.

DATES: Applicable June 15, 2021.

FOR FURTHER INFORMATION CONTACT: Dennis McClure or Suzanne Lam, AD/CVD Operations, Office VIII, Enforcement and Compliance, International Trade Administration, U.S. Department of Commerce, 1401 Constitution Avenue NW, Washington, DC 20230; telephone: (202) 482-5973 or (202) 482-0783, respectively.

SUPPLEMENTARY INFORMATION:

Background

On December 2, 2020, Commerce published a notice of opportunity to request an administrative review of the countervailing duty order on wood flooring from China.¹ Pursuant to requests from interested parties, on February 4, 2021, Commerce published the initiation of an administrative review with respect to 170 companies, in accordance with section 751(a) of the Tariff Act of 1930, as amended (the Act).² Subsequent to the initiation of the administrative review, the petitioner ³ timely withdrew its request for an administrative review of 88 companies, as discussed below. No other party had requested a review of these 88 companies. There are active review requests on the record for the remaining 82 companies.

¹ See Antidumping or Countervailing Duty Order, Finding, or Suspended Investigation; Opportunity to Request Administrative Review, 85 FR 77431 (December 2, 2020).

² See Initiation of Antidumping and Countervailing Duty Administrative Reviews, 86 FR 8166 (February 4, 2021) (Initiation Notice); see also Initiation of Antidumping and Countervailing Duty Administrative Reviews, 86 FR 8166 (March 4, 2021) (Amended Initiation Notice), in which Commerce also initiated review of Metropolitan Hardwood Floors, Inc. after it had been inadvertently omitted from the February 4, 2021, Initiation Notice.

³ The petitioner is American Manufacturers of Multilayered Wood Flooring.

Partial Rescission of Administrative Review

Pursuant to 19 CFR 351.213(d)(1), Commerce will rescind an administrative review, in whole or in part, if the party that requested a review withdraws its request within 90 days of the date of publication of the notice of initiation. All requests for an administrative review were withdrawn by the established deadline, May 5, 2021, for the companies listed in the Appendix.⁴ As a result, Commerce is rescinding this review with respect to these companies, in accordance with 19 CFR 351.213(d)(1). The administrative review will continue with respect to the remaining 82 companies listed in our Initiation Notice and Amended Initiation Notice.⁵

⁴ See Petitioner's Letter, “Partial Withdrawal of Request for Administrative Review,” dated May 5, 2021.

⁵ See Initiation Notice, 86 FR at 8173; and Amended Initiation Notice, 86 FR at 12610.

Assessment

Commerce will instruct U.S. Customs and Border Protection (CBP) to assess countervailing duties on all appropriate entries. For the companies for which this review is rescinded, countervailing duties shall be assessed at rates equal to the cash deposit of estimated countervailing duties required at the time of entry, or withdrawal from warehouse for consumption, in accordance with 19 CFR 351.212(c)(l)(i). Commerce intends to issue assessment instructions to CBP no earlier than 35 days after the date of publication of this rescission notice in the Federal Register.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Act, and 19 CFR 351.213(d)(4).

Dated: June 10, 2021.
James Maeder,
Deputy Assistant Secretary for Antidumping and Countervailing Duty Operations.

Appendix

Companies Rescinded From Review

1. A&W (Shanghai) Woods Co., Ltd.

2. Anhui Suzhou Dongda Wood Co., Ltd.

3. Baishan Huafeng Wooden Product Co., Ltd.

4. Baiying Furniture Manufacturer Co., Ltd.

5. Changbai Mountain Development And Protection Zone Hongtu Wood Industrial Co., Ltd.

6. Cheng Hang Wood Co., Ltd.

7. Chinafloors Timber (China) Co., Ltd.

8. Dalian Dajen Wood Co., Ltd.

9. Dalian Deerfu Wooden Product Co., Ltd.

10. Dalian Huade Wood Product Co., Ltd.

11. Dalian Jinda Wood Products Corporation

12. Dalian Jiuyuan Wood Industry Co., Ltd.

13. Dalian Meisen Woodworking

14. Dalian Xinjinghua Wood Co., Ltd.

15. Dongtai Zhangshi Wood Industry Co. Ltd.

16. Dunhua City Wanrong Wood Industry Co., Ltd.

17. Fu Lik Timber (HK) Co., Ltd.

18. Fujian Wuyishan Werner Green Industry Co., Ltd.

19. Furnco International Shanghai Company

20. Gaotang Weilong Industry and Trade

21. Gold Seagull Shanghai Flooring

22. GTP International Ltd.

23. Guangdong Fu Lin Timber Technology Limited

24. Guangzhou Panyu Kangda Board Co., Ltd.

25. Guangzhou Panyu Southern Star Co., Ltd.

26. HaiLin XinCheng Wooden Products, Ltd.

27. Hangzhou Dazhuang Floor Co., Ltd. (DBA Dasso Industrial Group Co., Ltd.)

28. Hangzhou Huahi Wood Industry Co., Ltd.

29. Henan Xingwangjia Technology Co., Ltd.

30. Hong Kong Easoon Wood Technology Co., Ltd.

31. Huaxin Jiasheng Wood Co., Ltd.

32. Huber Engineering Wood Corp.

33. Huzhou City Nanxun Guangda Wood Co., Ltd.

34. Huzhou Daruo Import And Export

35. Huzhou Fuma Wood Co., Ltd.

36. Huzhou Laike Import and Export Co.

37. Huzhou Muyun Wood Co., Ltd.

38. Innomaster Home (Zhongshan) Co., Ltd.

39. Jesonwood Forest Products ZJ

40. Jiafeng Wood (Suzhou) Co., Ltd.

41. Jiangsu Kentier Wood Co., Ltd.

42. Jiashan Fengyun Timber Co., Ltd.

43. Jilin Forest Industry Jinqiao Flooring Group Co., Ltd.

44. Kunming Alston (AST) Wood Products Co., Ltd.

45. Liaoning Daheng Timber Group

46. Linyi Bonn Flooring Manufacturing Co., Ltd.

47. Max Choice Wood Industry

48. Mudanjiang Bosen Wood Industry Co., Ltd.

49. Nakahiro Jyou Sei Furniture (Dalian) Co., Ltd.

50. Nanjing Minglin Wooden Industry Co., Ltd.

51. Ningbo Tianyi Bamboo and Wood Products Co., Ltd.

52. PT. Tanjung Kreasi Parquet Industry

53. Qingdao Barry Flooring Co., Ltd.

54. Qingdao Wisdom International

55. Samling Riverside Co., Ltd.

56. Shandong Kaiyuan Wood Industry Co., Ltd.

57. Shandong Longteng Wood Co., Ltd.

58. Shandong Puli Trading Co., Ltd.

59. Shanghai Anxin (Weiguang) Timber Co., Ltd.

60. Shanghai Demeija Timber Co., Ltd.

61. Shanghai Eswell Timber Co., Ltd.

62. Shanghai Lairunde Wood Co., Ltd.

63. Shanghai Lizhong Wood Products Co., Ltd. (a/k/a The Lizhong Wood Industry Limited Company of Shanghai)

64. Shanghai New Sihe Wood Co., Ltd.

65. Shanghai Shenlin Corporation

66. Shenyang Haobainian Wooden Co., Ltd.

67. Shenyang Sende Wood Co., Ltd.

68. Shenzhenshi Huanwei Woods Co., Ltd.

69. Suifenhe Chengfeng Trading Co., Ltd.

70. Sunyoung Wooden Products

71. Suzhou Anxin Weiguang Timber Co., Ltd.

72. Tak Wah Building Material (Suzhou) Co.

73. The Greenville Flooring Co., Ltd.

74. Topocean Consolidation Service

75. Vicwood Industry (Suzhou) Co. Ltd.

76. Xuzhou Antop International Trade Co., Ltd.

77. Yixing Lion-King Timber Industry

78. Zhejiang Anji Xinfeng Bamboo And Wood Industry Co., Ltd.

79. Zhejiang Biyork Wood Co., Ltd.

80. Zhejiang Dadongwu Auto Elect Motor

81. Zhejiang Desheng Wood Industry Co., Ltd.

82. Zhejiang Fudeli Timber Industry Co., Ltd.

83. Zhejiang Fuma Warm Technology Co., Ltd.

84. Zhejiang Haoyun Wooden Co., Ltd.

85. Zhejiang Jesonwood Co., Ltd.

86. Zhejiang Jiaye Flooring

87. Zhejiang Tianzhen Bamboo & Wood Development Co., Ltd.

88. Zhejiang Yongyu Bamboo Joint-Stock Co., Ltd.

[FR Doc. 2021-12561 Filed 6-14-21; 8:45 am]

BILLING CODE 3510-DS-P